DEPARTMENT OF ENERGY

Federal Energy Regulatory Commission

Sunshine Act Meeting Notice

July 8, 2010.

The following notice of meeting is published pursuant to section 3(a) of the government in the Sunshine Act (Pub. L. No. 94-409), 5 U.S.C. 552b:

Agency Holding Meeting: Federal Energy Regulatory Commission.

Date and Time: July 15, 2010, 10 a.m.

Place: Room 2C, 888 First Street, NE., Washington, DC 20426.

Status: Open.

Matters To Be Considered: Agenda*.

Note: Items listed on the agenda may be deleted without further notice.

Contact Person for More Information: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

961st—Meeting; Regular Meeting; July 15, 2010; 10 a.m.
Item No. | Docket No. | Company
Administrative
A-1 | AD02-1-000 | Agency Administrative Matters.
A-2 | AD02-7-000 | Customer Matters, Reliability, Security and Market Operations
A-3 | AD10-15-000 | Smart Grid Update.
Electric
E-1 | EL10-64-000 | California Public Utilities Commission.
| EL10-66-000 | Southern California Edison Company, Pacific Gas and Electric Company and San Diego Gas & Electric Company.
E-2 | ER10-1269-000 | Southwest Power Pool, Inc.
E-3 | RD10-13-000 | North American Electric Reliability Corporation.
E-4 | RM08-19-003 | Mandatory Reliability Standards for the Calculation of Available Transfer Capability, Capacity Benefit Margins, Transmission Reliability; Margins, Total Transfer Capability, and Existing Transmission Commitments; Mandatory Reliability Standards for the Bulk Power System.
| RM05-5-019 | Standards for Business Practices and Communication Protocols for Public Utilities.
E-5 | OA08-52-007 | New York Independent System Operator, Inc. New York Transmission Owners.
E-6 | ER10-1268-000 | South Carolina Electric & Gas Company.
| ER10-516-000
| ER10-855-000
E-7 | OMITTED
E-8 | EG06-73-000 | BG Dighton Power, LLC.
| EG98-79-000 | MASSPOWER.
| EG99-220-000 | Lake Road Generating Company, LP.
E-9 | ER10-1185-000 | ISO New England Inc.
E-10 | ER10-765-000 | California Independent System Operator Corporation.
E-11 | ER10-942-000 | ISO New England Inc. and New England Power Pool
E-12 | ER07-521-009 | New York Independent System Operator, Inc.
E-13 | ER08-1281-004 | New York Independent System Operator, Inc.
E-14 | OMITTED
E-15 | EL10-69-000 | Virginia Electric and Power Company v. PJM Interconnection, L.L.C.
Gas
G-1 | RP09-2-002 | Portland Natural Gas Transmission System.
G-2 | RP01-245-031 | Transcontinental Gas Pipe Line Corporation.
G-3 | RP10-149-000 | Great Lakes Gas Transmission Limited Partnership.
Hydro
H-1 | P-1888-028 | York Haven Power Company, LLC.
H-2 | UL09-1-002 | L.S. Starrett Company.
H-3 | P-460-033 | City of Tacoma, Washington.
| P-460-040
| P-460-021
H-4 | EL10-53-000 | FPL Energy Maine Hydro LLC v. Great Lakes Hydro America, LLC and Rumford Falls Hydro LLC.
H-5 | P-2355-014 | Exelon Generation Company, LLC.
Certificates
C-1 | OMITTED
C-2 | CP10-73-000 | TGGT Holdings, LLC.
C-3 | CP09-455-000 | Florida Gas Transmission Company, LLC.
| CP09-456-000 | Transcontinental Gas Pipe Line Company, LLC. Florida Gas Transmission Company, LLC.

Kimberly D. Bose,
Secretary.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-17218 Filed 7-12-10; 11:15 am]

BILLING CODE 6717-01-P